DEPARTMENT OF THE INTERIOR

Fish and Wildlife Service

Availability of a Draft Environmental Assessment on Depredation Permits for the Control and Management of Gulls in the Great Lakes Region

AGENCY: Fish and Wildlife Service, Interior.

ACTION: Notice of availability.

SUMMARY: This Notice advises the public that a Draft Environmental Assessment on Depredation Permits for the Control and Management of Gulls in the Great Lakes Region is available for public review. Comments and suggestions are requested.

DATES: You must submit comments on the Draft Environmental Assessment by October 2, 2000.

ADDRESSES: Copies of the Draft Environmental Assessment can be obtained by writing to Stephen Wilds, Chief, Division of Migratory Birds, U.S. Fish and Wildlife Service, 1 Federal Drive, Ft. Snelling, Minnesota 55111-4056. Written comments can be sent to the same address. All comments received, including names and addresses, will become part of the public record. You may inspect comments during normal business hours at the same address.

FOR FURTHER INFORMATION CONTACT: Stephen D. Wilds at: U.S. Fish and Wildlife Service, 1 Federal Drive, Ft. Snelling, Minnesota 55111-4056, (612) 713-5432.

SUPPLEMENTARY INFORMATION: The Draft Environmental Assessment includes a review the potential impacts of the issuance of permits which allow the destruction of ring-billed and herring gull nests and eggs and limited killing of adult and sub-adult gulls to protect property and for public health and safety reasons under the Migratory Bird Treaty Act. In recent years, the U.S. Fish and Wildlife Service (Service), in cooperation with USDA-Wildlife Services, has addressed gull problems through the issuance of depredation permits on a case-by-case basis. While this approach has provided some relief in some areas, the Service is concerned with the current gull population and the growing human conflict trends and the permit controlled management activities. The Assessment reviews gull population status and the trends in human conflicts with gulls and considers three alternative ways for permitting the control and management of depredating gulls.

William Hartwig,
Regional Director, U.S. Fish and Wildlife Service.

[FR Doc. 00-22448 Filed 8-31-00; 8:45 am]

BILLING CODE 4310-55-P